DEPARTMENT OF COMMERCE

National Oceanic and Atmospheric Administration

Request for Information; Data for Marine Spatial Studies Related to Transmission Planning in Texas, Louisiana, Mississippi, and Alabama

AGENCY: National Centers for Coastal Ocean Science, National Ocean Service, National Oceanic and Atmospheric Administration (NOAA), Department of Commerce.

ACTION: Notice; request for information.

SUMMARY: NOAA's National Ocean Service (NOS) National Centers for Coastal Ocean Science (NCCOS), hereafter NOAA, in partnership with the Bureau of Ocean Energy Management (BOEM) and the Department of Energy (DOE) Grid Deployment Office (GDO) and the National Renewable Energy Laboratory (NREL), is working to build on existing spatial planning capacity in the United States (U.S.) Gulf of Mexico region. Through this Request for Information, NOAA is seeking public input to identify coastal and marine spatial data or other critical information to inform spatial analyses for transmission planning in state and Federal waters off Texas, Louisiana, Mississippi, and Alabama. The input we receive from the data development workshop meeting, as well as the responses to the items listed in the SUPPLEMENTARY INFORMATION section of this document, will be used to inform potential coastal and ocean development activities in the U.S. Gulf of Mexico region, such as renewable energy development.

DATES: Interested persons are invited to provide input in response to this Request for Information through January 24, 2025. Late-filed input will be considered to the extent practicable.

Verbal input will be accepted during a public meeting to be held at the InterContinental Hotel in New Orleans, Louisiana on January 14-15, 2025.

ADDRESSES: Interested persons are invited to provide input using one of the following methods:

• Electronic Submission: Submit electronic written public comments via the Federal e- Rulemaking Portal. Go to https://www.regulations.gov and enter NOAA-NOS-2024-0138 in the Search box. Click on the “Comment” icon, complete the required fields, and enter or attach your comments. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

• Verbal submission: NOAA will accept verbal input at a data development workshop. The meeting will be held at the InterContinental Hotel in New Orleans, Louisiana on Tuesday, January 14, 2025 from 8 a.m. to 5 p.m. Central Standard Time (CST) and Wednesday, January 15, 2025 from 8 a.m. to 5 p.m. CST. There will be a registration window from 8 a.m. to 9 a.m. CST each day before the start of the meeting. Advanced registration is required for the meeting by completing the registration form at https://forms.gle/BmTDiD5zV3ZuXHuN8 or by providing an RSVP to Joshua Chastain at joshua.chastain@noaa.gov. The registration deadline is Friday, January 3, 2025.

Reports of meeting results will also be published and made available to the public in the weeks following the meeting. If you are unable to provide electronic written comments or participate in the meeting, please contact Joshua Chastain at joshua.chastain@noaa.gov or (843) 267-5641 for alternative submission methods.

FOR FURTHER INFORMATION CONTACT: James Morris, NOAA NCCOS, at james.morris@noaa.gov or (252) 666-7433.

SUPPLEMENTARY INFORMATION:

I. Background

NOAA is an agency of the United States Federal Government that works to conserve and manage coastal and marine ecosystems and resources. NOAA works to make fisheries sustainable and productive, provide safe seafood to consumers, conserve threatened and endangered species and other protected resources, and maintain healthy ecosystems. NOAA has jurisdiction and responsibility for its trust marine resources in the U.S. Gulf of Mexico region as well as significant interest in supporting the resilience of coastal and marine-dependent communities and promoting equity and environmental justice. For these reasons, it is important for NOAA to invest in research that informs marine spatial studies in the U.S. Gulf of Mexico region, including socioeconomic research that ensures meaningful participation of local communities and supports equitable processes for planning and siting of new and existing marine industries and conservation areas.

NOAA has been engaged with the Bureau of Ocean Energy Management (BOEM) to support siting and environmental review for offshore wind energy areas in U.S. Federal waters (https://www.boem.gov/renewable-energy) to ensure protection of trust resources in any offshore development activities.

II. Purpose of This Request for Information

The purpose of this Request for Information is to promote data development to inform coastal and marine spatial studies related to transmission planning in Texas, Louisiana, Mississippi, and Alabama, with an emphasis on data needs for offshore wind and transmission planning. In addition to input received from the public through the electronic and verbal submissions, NOAA aims to inform the public about its coastal and ocean planning processes and capabilities, discuss the current data available for each ocean sector (e.g., national security, fisheries, industry, metocean, natural, cultural, and social resources), and gather ideas for other data sources. NOAA hopes to come out of the meetings with a strengthened relationship with the public and a list of best available data and data gaps.

III. Specific Information Requested To Inform Marine Spatial Studies Related to Transmission Planning in Texas, Louisiana, Mississippi, and Alabama

Through this Request for Information, NOAA seeks written public input to inform coastal and marine spatial studies related to transmission planning in the U.S. Gulf of Mexico region. NOAA is particularly interested in receiving input concerning the items listed below. Responses to this Request for Information are voluntary, and respondents need not reply to items listed. When providing input, please specify if you are providing general feedback on marine spatial studies and/or if you are responding to one of the specific item number(s) below:

1. Specific datasets related to ocean sectors, natural resources, and/or human activities you recommend NOAA use in coastal and marine spatial studies.

Major concerns you have related to use of any specific datasets that may be used in coastal and marine spatial studies.

2. Major concerns you have related to gaps in scientific knowledge or data that could impact coastal and marine spatial planning efforts.

3. Specific data or information you recommend NOAA or other partners collect, if it is not currently available or has not been previously collected.

4. Ways in which NOAA can better engage and collaborate with the public and local communities to promote economic, social, and ecological resilience as well as protect trust resources.

5. Ways in which NOAA can build upon existing capacity and resources for regional ocean spatial planning.

Sean Corson,
Director, National Centers for Coastal Ocean Science, National Ocean Service, National Oceanic and Atmospheric Administration.

[FR Doc. 2024-30026 Filed 12-17-24; 8:45 am]

BILLING CODE 3510-JE-P